FEDERAL COMMUNICATIONS COMMISSION

47 CFR Part 73

[DA 01-272]

Radio Broadcasting Services; Various Locations

AGENCY: Federal Communications Commission.

ACTION: Final rule; correction.

SUMMARY: The Federal Communications Commission published in the Federal Register of February 16, 2001, See 66 FR 10631, a document amending § 73.202(b), the FM Table of Allotments. Therein the FCC amended the Table of FM Allotments to remove Channel 279C1 and add Channel 278C1 at Anadarko, Oklahoma. Action taken in MM Docket No. 98-198 substituted Channel 278C for Channel 279C1 at Anadarko, Oklahoma. See 65 FR 19335, April 11, 2000. This document corrects § 73.202 (b), the FM Table of Allotments to show the removal of Channel 278C in lieu of Channel 279C1 at Anadarko, Oklahoma.

DATES: Effective on April 10, 2001.

FOR FURTHER INFORMATION CONTACT: Kathleen Scheuerle, Mass Media Bureau, (202) 418-2180.

SUPPLEMENTARY INFORMATION: The FCC published a document in the Federal Register of April 11, 2000, (65 FR 19335) removing Channel 279C1 and adding Channel 278C at Anadarko, Oklahoma. In FR Doc. 01-3960, inadvertently published in the Federal Register of February 16, 2001, (66 FR 10631), an amendment of § 73.202(b), the FM Table of Allotments under Oklahoma, removing Channel 279C1 and adding Channel 278C1 at Anadarko. This correction amends § 73.202(b), the FM Table of Allotments under Oklahoma to remove Channel 278C instead of Channel 279C1 at Anadarko.

In rule FR Doc. 01-3960 published on February 16, 2001, (66 FR 10631) make the following correction.

§ 73.202 [Corrected]

On page 10632, in the first column, instruction no. 3 is corrected to read as follows:

3. Section 73.202(b), the Table of FM Allotments under Oklahoma, is amended by removing Channel 278C and adding Channel 278C1 at Anadarko.

John A. Karousos,
Chief, Allocations Branch, Policy and Rules Division, Mass Media Bureau.

[FR Doc. 01-8751 Filed 4-9-01; 8:45 am]

BILLING CODE 6712-01-P